DEPARTMENT OF ENERGY

Federal Energy Regulatory Commission

[Project No. 1869-066]

NorthWestern Energy; Notice of Application Tendered for Filing With the Commission and Establishing Procedural Schedule for Licensing and Deadline for Submission of Final Amendments

Take notice that the following hydroelectric application has been filed with the Commission and is available for public inspection.

a. Type of Application: New Major License.

b. Project No.: 1869-066.

c. Date Filed: December 29, 2023.

d. Applicant: NorthWestern Energy.

e. Name of Project: Thompsons Falls Hydroelectric Project.

f. Location: On the Clark Fork River in Sanders County in the city of Thompson Falls, Montana. The project includes 103.80 acres of federal lands administered by the U.S. Forest Service.

g. Filed Pursuant to: Federal Power Act, 16 U.S.C. 791(a)-825(r).

h. Applicant Contact: Mary Gail Sullivan, Director, Environmental & Lands Permitting & Compliance, NorthWestern Energy 11 East Park Street, Butte, Montana 59701; phone: (406) 497-3382 or (406) 490-1838.

i. FERC Contact: Michael Tust at (202) 502-6522 or email at michael.tust@ferc.gov.

j. This application is not ready for environmental analysis at this time.

k. Project Description: The project consists of multiple dams that form the project reservoir and two powerhouses. The following existing facilities occur at the project: (1) a 1,016-foot-long, 54-foot-high, concrete gravity dam (i.e., main channel dam) with a 913-foot-long overflow section with 8-foot-high fixed wheel panels atop 8-foot-high stoplogs and four radial gates; (2) an upstream fish passage facility on the main channel dam; (3) a 449-foot-long, 45-foot-high concrete gravity dam (i.e., dry channel dam) located downstream of the main channel dam with a 289-foot-long overflow section with 8-foot-high fixed wheel panels atop 4-foot-high stoplogs; (4) a 1,226-acre reservoir impounded by the two dams; (5) a 300-foot-long, 78-foot-wide excavated channel leading to a 200-foot long, 78-foot-wide reinforced concrete intake structure; (6) three 39-foot-high, 18-foot-wide, and 75-foot-long rectangular conduits extending from the intake to a 200-foot-long, 78-foot-wide concrete powerhouse containing a Kaplan-type turbine-generator unit with an installed capacity of 52.61 megawatts (MW); (7) a 450-foot-long, 80-foot-wide forebay channel leading to a 258-foot-long, 40-foot-high second intake structure (adjacent to the other intake structure); (8) six steel, 14-foot-diameter main turbine penstocks and two 6-foot-8-inch-diameter exciter turbine penstocks extend from the second intake to a 292-foot-long, 97-foot-wide second powerhouse containing six Francis-type turbine-generating units, with three rated at 7.0 MW, two rated at 6.38 MW, and one rated at 6.0 MW; (9) a 1,000-foot-long, 100-foot-wide tailrace channel leading from the outlet of the first powerhouse; (10) a 800-foot-long, 130-foot-wide tailrace channel leading from the outlet of the second powerhouse; (11) three generator step-up transformers; (12) a 300-foot-long, 115-kilovolt generator lead line extending from the first powerhouse to the second powerhouse and two 50-foot-long, 6.6-kilovolt generator lead lines connecting to a breaker within the second powerhouse serving as the interconnection point for both powerhouses; (13) a 1,000-foot long access road; and (14) appurtenant facilities. NorthWestern Energy maintains the following recreation facilities under the current license: Island Park, Wild Goose Landing Park, and the South Shore Dispersed Recreation Area.

NorthWestern Energy is currently authorized to operate as a peaking facility while maintaining the reservoir elevation within a four-foot operating band (i.e., between 2396.5 feet and 2392.5 feet elevation). However, NorthWestern Energy typically maintains the reservoir within 1.5 feet from the full operating level (i.e., between 2396.5 feet and 2395.0 feet) while also maintaining a minimum discharge flow of 6,000 cubic feet per second or inflow, if less, in the Clark Fork River downstream of the project. NorthWestern proposes to maintain the reservoir within 2.5 feet from the full operating level (i.e., between 2396.5 feet and 2394.0 feet) while continuing to maintain the 6,000-cfs minimum flow discharge downstream of the project and would continue to operate its upstream fish passage facility from mid-March to mid-October each year. The project has an average annual generation of 504,300 megawatt-hours.

NorthWestern Energy also proposes to revise the project boundary to more accurately follow the reservoir shoreline at the project's highest operating elevation and to enclose only those lands necessary for operation and maintenance. The boundary changes would reduce the project acreage from 2,001 to 1,536 acres and it would reduce the acreage of federal lands within the project boundary from 103.80 acres to 66.90 acres.

l. Location of the Application: In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-1869). For assistance, contact FERC at FERCOnlineSupport@ferc.gov or call toll-free, (866) 208-3676 or (202) 502-8659 (TTY).

m. You may also register online at https://ferconline.ferc.gov/FERCOnline.aspx to be notified via email of new filings and issuances related to this or other pending projects. For assistance, contact FERC Online Support.

n. Procedural Schedule: The application will be processed according to the following preliminary Hydro Licensing Schedule. Revisions to the schedule may be made as appropriate.

Milestone | Target date
Issue Deficiency Letter (if necessary) | January 2024.
Issue Additional Information Request (if necessary) | February 2023.
Notice of Acceptance/Notice of Ready for Environmental Analysis | June 2024.
Filing of recommendations, preliminary terms and conditions, and fishway prescriptions | August 2024.

o. Final amendments to the application must be filed with the Commission no later than 30 days from the issuance date of the notice of ready for environmental analysis.

Dated: January 12, 2024.
Debbie-Anne A. Reese,
Acting Secretary.

[FR Doc. 2024-01037 Filed 1-18-24; 8:45 am]

BILLING CODE 6717-01-P